DEPARTMENT OF LABOR

Employment and Training Administration

[TA-W-65,692]

Tricon Timber, LLC, Superior, MT; Notice of Termination of Investigation

Pursuant to Section 221 of the Trade Act of 1974, as amended, an investigation was initiated on March 27, 2009 in response to a petition filed by a company official on behalf of workers of Tricon Timber, LLC, Superior, Montana.

The petitioner has requested that the petition be withdrawn. Consequently, the investigation has been terminated.

Signed at Washington, DC, this 23rd day of April 2009.
Richard Church,
Certifying Officer, Division of Trade Adjustment Assistance.

[FR Doc. E9-11865 Filed 5-20-09; 8:45 am]

BILLING CODE 4510-FN-P